DEPARTMENT OF COMMERCE

International Trade Administration

[A-122-836]

Live Processed Blue Mussels from Canada: Notice of Termination of Antidumping Investigation

AGENCY: Import Administration, International Trade Administration, Department of Commerce.

ACTION: Notice of termination of antidumping investigation for the period April 1, 2000 through March 31, 2001.

SUMMARY: On April 6, 2001, the Department of Commerce (the Department) initiated an antidumping investigation of live processed blue mussels from Canada. See Notice of Initiation of Antidumping Investigation: Live Processed Blue Mussels From Canada, 66 FR 18227 (April 6, 2001). The Department is terminating this investigation after receiving a timely withdrawal of the petition from the petitioner.

EFFECTIVE DATE: January 30, 2002.

FOR FURTHER INFORMATION CONTACT: Thomas F. Futtner or Paige Rivas, AD/CVD Enforcement, Group II, Office 4, Import Administration, International Trade Administration, U.S. Department of Commerce, 14th Street and Constitution Avenue, NW, Washington, DC 20230; telephone (202) 482-3814 or (202) 482-0651, respectively; fax (202) 482-5105.

SUPPLEMENTARY INFORMATION:

The Applicable Statute and Regulations

Unless otherwise indicated, all citations to the Tariff Act of 1930, as amended (the Act), are references to the provisions in effect as of January 1, 1995, the effective date of the amendments made to the Act by the Uruguay Round Agreements Act. In addition, unless otherwise indicated, all citations to the Department's regulations are to the regulations as codified at 19 CFR part 351 (2001).

Background

On March 12, 2001, the Department received a petition from Great Eastern Mussel Farms, Inc. (Great Eastern) alleging that live processed blue mussels from Canada were being sold, or were likely to be sold, in the United States at less than fair value. On April 6, 2001, the Department initiated an antidumping investigation of live processed blue mussels from Canada for the period April 1, 2000 through March 31, 2002 in order to determine whether merchandise imported into the United States is being sold at dumped prices. On October 18, 2001, the Department published in the Federal Register a notice of preliminary determination of sales at less than fair. See Notice of Preliminary Determination of Sales at Less Than Fair Value and Postponement of Final Determination: Live Processed Blue Mussels from, 66 FR 52888 (October 18, 2001). On January 7, 2002, Great Eastern withdrew its petition citing improved market conditions.

Termination of the Antidumping Investigation

Pursuant to 19 CFR 351.207(b)(1), the Department may terminate an investigation upon withdrawal of the petition by the petitioner provided that the termination of the investigation is in the public interest. We contacted all interested parties to the investigation and notified them in writing of our intent to terminate the investigation and informed them that they had seven days in which to comment on this termination. No domestic interested party has objected to termination of this investigation. As no domestic interested party objects to this termination and the Department is not aware of evidence to the contrary, the Department finds that termination of this investigation is in the public interest. As such, we are terminating this antidumping investigation and will issue instructions directly to the U.S. Customs Service to terminate the suspension of subject merchandise.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This determination and notice are in accordance with section 734(a) of the Act and section 19 CFR 351.207(b) of the Department's regulations.

January 24, 2002
Faryar Shirzad,
Assistant Secretaryfor Import Administration.

[FR Doc. 02-2251 Filed 1-29-02; 8:45 am]

BILLING CODE 3510-DS-S